SMALL BUSINESS ADMINISTRATION

[Declaration of Disaster #3237]

State of Georgia; Amendment #2

In accordance with a notice from the Federal Emergency Management Agency dated March 21, 2000, the above-numbered Declaration is hereby amended to include Turner County, Georgia as a disaster area due to damages caused by severe storms and tornadoes that occurred on February 14, 2000.

In addition, applications for economic injury loans from small businesses located in the contiguous Counties of Ben Hill, Crisp, and Wilcox in the State of Georgia may be filed until the specified date at the previously designated location. Any counties contiguous to the above-named primary county and not listed herein have been previously declared.

All other information remains the same, i.e., the deadline for filing applications for physical damage is April 15, 2000 and for economic injury the deadline is November 15, 2000.

(Catalog of Federal Domestic Assistance Program Nos. 59002 and 59008)
Dated: March 23, 2000.
Bernard Kulik,
Associate Administrator for Disaster Assistance.

[FR Doc. 00-8026 Filed 3-30-00; 8:45 am]

BILLING CODE 8025-01-U